DEPARTMENT OF JUSTICE

[OMB Number 1110-0048]

Agency Information Collection Activities; Proposed eCollection eComments Requested; Extension of a Previously Approved Collection; Cargo Theft Incident Report

AGENCY: Federal Bureau of Investigation, Department of Justice.

ACTION: 60-Day notice.

SUMMARY: The Federal Bureau of Investigation, Department of Justice (DOJ), will be submitting the following information collection request to the Office of Management and Budget (OMB) for review and approval in accordance with the Paperwork Reduction Act of 1995.

DATES: Comments are encouraged and will be accepted for 60 days until October 21, 2024.

FOR FURTHER INFORMATION CONTACT: If you have additional comments especially on the estimated public burden or associated response time, suggestions, or need a copy of the proposed information collection instrument with instructions or additional information, please contact Edward L. Abraham, Crime and Law Enforcement Statistics Unit Chief, FBI, CJIS Division, elabraham@fbi.gov, 304-625-4830.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This survey is needed to collect reports of cargo theft offenses reported by federal, state, local, tribal, university/college, and territorial LEAs. It should be noted cargo theft offenses are being collected under the National Incident-Based Reporting System (NIBRS) as of January 1, 2021. However, some agencies did not complete the transition to NIBRS by the given date. Therefore, the FBI's Uniform Crime Reporting (UCR) Program continues to collect cargo theft information under the Summary Reporting System (SRS). This practice will only occur for a short period of time after which the FBI's UCR Program will no longer accept new cargo theft data from those agencies not yet participating in NIBRS (i.e., SRS agencies). When the extension officially expires, the FBI's UCR Program will only accept updates to previously reported cargo theft incidents submitted by SRS agencies via the Cargo Theft Incident Report. The updated information will be added to the master file for historical purposes.

Overview of This Information Collection

1. Type of Information Collection: Extension of a previously approved collection.

2. The Title of the Form/Collection: Cargo Theft Incident Report.

3. The agency form number, if any, and the applicable component of the Department sponsoring the collection: There is no form number for this collection. The applicable component within DOJ is the CJIS Division, FBI.

4. Affected public who will be asked or required to respond, as well as the obligation to respond: Affected Public is primarily law enforcement agencies LEAs. The obligation to respond is voluntary.

5. An estimate of the total number of respondents and the amount of time estimated for an average respondent to respond: The estimated number of respondents is 22.433. The time per response is 5 minutes. CIV estimates that 114 respondents will take three minutes to complete the form.

6. An estimate of the total annual burden (in hours) associated with the collection: 22,433 responses × 5 minutes = 112,165 minutes/60 = 1,869.42 hours.

7. An estimate of the total annual cost burden associated with the collection, if applicable: $0.

Total Burden Hours
Activity | Number of respondents | Frequency | Total annual responses | Time per response (min) | Total annual burden (hours)
Ex: Survey (individuals or households) | 22,433 | 1/annually | 22,433 | 5 | 1,870
Unduplicated Totals | 22,433 |  | 22,433 |  | 1,870

If additional information is required contact: Darwin Arceo, Department Clearance Officer, United States Department of Justice, Justice Management Division, Policy and Planning Staff, Two Constitution Square, 145 N Street NE, 4W-218, Washington, DC.

Dated: August 19, 2024.
Darwin Arceo,
Department Clearance Officer for PRA, U.S. Department of Justice.

[FR Doc. 2024-18845 Filed 8-21-24; 8:45 am]

BILLING CODE 4410-02-P